ENVIRONMENTAL PROTECTION AGENCY

[ER-FRL-6676-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060046, ERP No. D-BIA-K65299-CA, Scotts Valley Band of Pomo Indians, Proposed 29.87 Acre Fee-to-Trust Transfer and Casino Project, Contra Costa County, CA.

Summary: EPA expressed environmental concerns about contamination from past industrial uses of the project site and requested additional information on hazardous materials characterization and procedures to be used to address contamination.

Rating EC2.

EIS No. 20060052, ERP No. D-NRC-F06029-MI,GENERIC—License Renewal of Nuclear Plants, Supplement 27 to NUREG-1437, Regarding Palisade Nuclear Plant, Located in Covert Township, Van Buren County, MI.

Summary: EPA expressed environmental concerns about risk estimates and entrainment of fish and shellfish in early life stages.

Rating EC2.

EIS No. 20060106, ERP No. D-AFS-L65505-ID, Clear Prong Project, Timber Harvest, Temporary Road Construction, Road Maintenance, Road Decommissioning, Thinning of Sub-Merchantable Tree, and Prescribed Fire, Boise National Forest, Cascade Ranger District, Valley County, ID.

Summary: EPA expressed environmental concerns about water quality impacts, and requested the Forest Service to confirm the expected beneficial impacts associated with restoration in a water quality impaired water body.

Rating EC1.

EIS No. 20060115, ERP No. D-AFS-J65460-UT, Upper Strawberry Allotments Grazing, Authorize Livestock Grazing, Heber Ranger District, Uinta National Forest, Wasatch County, UT.

Summary: EPA expressed environmental concerns about grazing impacts on riparian habitat and water quality, and suggested that the Final EIS explore more rigorous monitoring measures, and development of a comprehensive monitoring plan that is tied to specific adaptive measures that can be implemented in response to exceedance of thresholds or standards.

Rating EC2.

EIS No. 20060127, ERP No. D-AFS-K65304-CA, North 49 Forest Health Recovery Project, Restore Fire Adapted Forest System, Located in the Red (MA-16) and Logan (MA-45) Management Areas, Hat Creek Ranger District, Lassen National Forest, Shasta County, CA.

Summary: EPA expressed environmental concerns about potential impacts to the watershed, in particular to water quality and soil, and recommended that the final EIS include monitoring plans and mitigation measures and that impacts to Wildland Urban Interface areas be analyzed.

Rating EC2.

EIS No. 20060131, ERP No. D-AFS-L65506-OR, Kelsey Vegetation Management Project, Moving Resource Conditions Closer to the Goals and Desired Future Condition, Deschutes National Forest Land Resource Management Plan, Bend-Fort Rock Ranger District, Deschutes County, OR.

Summary: EPA expressed environmental concern about cumulative effects.

Rating EC1.

EIS No. 20060132, ERP No. D-AFS-L65507-ID, White/White Analysis Project, Proposes Vegetative Management and Watershed Improvement, Lolo Creek, Chamook Creek, White Creek, Mike White Creek, Nevada Creek, and Utah Creek, Lochsa Ranger District, Clearwater National Forest, Idaho and Clearwater County, ID.

Summary: EPA supports the restoration of riparian/stream channel, aquatic ecosystem, and watershed conditions. However, EPA expressed environmental concerns about sediment loading and temperature impacts from the stated levels of regeneration harvest to water quality, aquatic resources, and source water.

Rating EC2.

EIS No. 20060082, ERP No. DS-USA-L11037-AK, U.S. Army Alaska Battle Area Complex (BAX) and a Combined Arms Collective Training Facility (CACTF), Construction and Operation, Additional Information on Site Alternative, within U.S. Army Training Lands in Alaska.

Summary: EPA expressed environmental concerns about wetland and storm water impacts, and requested additional information on compensatory mitigation for unavoidable wetland impacts and storm water planning, monitoring and adaptive management.

Rating EC2.

Final EISs

EIS No. 20060004, ERP No. F-FHW-D40326-MD, Inter County Connector (ICC) from I-270 to US-1, Funding and U.S. Army COE Section 404 Permit, Montgomery and Prince George's Counties, MD.

Summary: EPA continues to have environmental concerns about impacts related to wetland complexes and tributary streams in particular. Nevertheless, EPA is pleased to note that FHWA and the Maryland State Highway Administration have incorporated many features intended to reduce or mitigate impacts.

EIS No. 20060135, ERP No. F-FHW-F40425-OH, US-24 Transportation Project, Improvements between Napoleon to Toledo, Funding, Lucas and Henry Counties, OH

Summary: EPA continues to have environmental concerns about commitments to floodplain and habitat mitigation as well as emergency access.

EIS No. 20060180, ERP No. F-AFS-F65060-IN, Tell City Windthrow 2004 Project, Salvage Harvest and Prescribed Burning of Windthrow Timber, Implementation, Hoosier National Forest, Perry, Crawford and Dubois Counties, IN.

Summary: EPA does not object to this project.

Dated: June 6, 2006.
Robert W. Hargrove,
Director, NEPA Compliance Division, Office of Federal Activities.

[FR Doc. E6-8996 Filed 6-8-06; 8:45 am]

BILLING CODE 6560-50-P